DEPARTMENT OF THE INTERIOR

Fish and Wildlife Service

[FWS-R1-ES-2018-N076; FXES11140100000-189-FF01E00000]

US Fish and Wildlife Service (Service) Adoption of the National Oceanic and Atmospheric Administration Restoration Center (NOAA RC) Programmatic Environmental Impact Statement for Coastal Habitat Restoration (PEIS)

AGENCY: Fish and Wildlife Service, Interior.

ACTION: Notice of Availability, Record of Decision (ROD).

SUMMARY: The Service, in accordance with the National Environmental Policy Act (NEPA), is adopting the NOAA RC PEIS. NOAA RC developed the PEIS in 2015 to evaluate impacts to natural and human environments of coastal habitat restoration activities funded or implemented through existing NOAA programs. Activities evaluated in the NOAA RC PEIS are similar to and often co-implemented or co-funded through analogous Service programs. The Service published its Notice of Intent to Adopt the NOAA RC PEIS on November 26, 2016 and invited agency and public comment for this adoption action. The 30-day comment period for this action ended December 27, 2016; the Service received no comments on the proposed adoption. The Service has prepared a ROD to formalize the adoption of the NOAA RC PEIS and implement its provisions. We provide this notice to make the ROD available to the public.

DATES: Service adoption and implementation of the provisions of the NOAA RC PEIS will take effect on September 30, 2019.

ADDRESSES: To request a copy of the ROD or supporting documentation, please use one of the following methods:

• Internet: You may view or download the ROD and obtain additional information on the internet at https://www.fws.gov/pacific/fedaid/PEIS.html

• Email: r1fa_grants@fws.gov. Include “Service ROD—NOAA RC PEIS” in the subject line of the message.

• U.S. Mail: Attn: FWS-R1-WSFR; U.S. Fish and Wildlife Service; Pacific Regional Office; 911 NE 11th Avenue, Portland, Oregon 97232.

• In-Person Viewing: Call 503-231-2096 to make an appointment for viewing documents during regular business hours at the above address.

FOR FURTHER INFORMATION CONTACT: Kathy Hollar, Chief, Pacific Region Wildlife and Sport Fish Restoration Program, U.S. Fish and Wildlife Service, Pacific Regional Office, 911 NE 11th Avenue, Portland, Oregon 97232, telephone: 503-231-6257. If you use a telecommunications device for the deaf, please call the Federal Relay Service at 800-877-8339.

SUPPLEMENTARY INFORMATION: Coastal restoration activities commonly implemented by the NOAA RC and the Service are described in eleven sections of the NOAA RC PEIS. NOAA RC and the Service have many years of experience with each of these activities and the two agencies often work together on coastal restoration projects of shared interest and jurisdiction. Full descriptions of the evaluated activities are included in Section 2 of the NOAA RC PEIS. The full NOAA RC PEIS is available for download at the internet address listed in the ADDRESSES section. The Service requested comment on the PEIS on November 26, 2016, at 81 FR 85221, EIS No. 20160280.

Authority

The Service provides this notice in accordance with the requirements of NEPA (42 U.S.C. 4321 et seq.), Council on Environmental Quality (CEQ) regulations for implementing NEPA (40 CFR parts 1500 through 1508), and Department of the Interior NEPA regulations (43 CFR part 46).

Dated: August 20, 2019.
Margaret E. Everson
Principal Deputy Director, U.S. Fish and Wildlife Service, Exercising the Authority of the Director for the U.S. Fish and Wildlife Service.

[FR Doc. 2019-18620 Filed 8-28-19; 8:45 am]

BILLING CODE 4333-15-P